COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were to be furnished by nonprofit agencies employing persons who are blind or have other severe disabilities.

DATES: Date added to and deleted from the Procurement List: September 18, 2022.

ADDRESSES: Committee for Purchase From People Who Are Blind or Severely Disabled, 325 E Street SW, Suite 325, Washington DC 20024.

FOR FURTHER INFORMATION CONTACT: Michael R. Jurkowski, Telephone: (703) 785-6404, or email CMTEFedReg@AbilityOne.gov.

SUPPLEMENTARY INFORMATION:

Deletions

On 12/3/2021, 5/13/2022, 5/20/2022 and 7/8/2022, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

NSN(s)—Product Name(s):

MR 13109—Cookie Tool, Scoop N' Cut

Designated Source of Supply: Winston-Salem Industries for the Blind, Inc, Winston-Salem, NC

Contracting Activity: Military Resale-Defense Commissary Agency

NSN(s)—Product Name(s):

7510-00-224-7676—Felt Stamp Pad, Size #1, 2 3/4″ x 4 1/4″, Un-Inked

7510-00-526-1741—Foam Stamp Pad, Size #2, 3 1/4″ x 6 1/4″, Un-Inked

7510-01-431-6518—Felt Stamp Pad, Size #1, 2 3/4″ x 4 1/4″, Red

7510-01-431-6519—Foam Stamp Pad, Size# 2, 3 1/4″ x 6 1/4″, Red

7510-01-431-6521—Felt Stamp Pad, Size #1, 2 3/4″ x 4 1/4″, Black

7510-01-431-6522—Foam Stamp Pad, Size# 2, 3 1/4″ x 6 1/4″, Black

Designated Source of Supply: NYSARC, Inc., Cattaraugus Niagara Counties Chapter, Olean, NY

Contracting Activity: GSA/FAS ADMIN SVCS ACQUISITION BR(2, NEW YORK, NY

NSN(s)—Product Name(s):

7520-00-281-5896—Stapler, Long Reach, 12″ Throat, Black

Designated Source of Supply: Access: Supports for Living Inc., Middletown, NY

Contracting Activity: GSA/FAS ADMIN SVCS ACQUISITION BR(2, NEW YORK, NY

NSN(s)—Product Name(s):

7510-00-526-1740—Foam Stamp Pad, Size #3, 4 1/2″ x 7 1/2″, Uninked

7510-00-231-6531—Felt Stamp Pad, Size #2, 3-1/4″ x 6-1/4″, Un-Inked

7510-00-526-1742—Foam Stamp Pad, Size #1, 2 3/4″ x 4 1/2″, Un-Inked

7510-01-431-6517—Foam Stamp Pad, Size #1, 2 3/4″ x 4 1/2″, Red

7510-01-431-6523—Felt Stamp Pad, Size #2, 3 1/4″ x 6 1/4″, Black

7510-01-431-6524—Foam Stamp Pad, Size #3, 4 1/2″ x 7 1/2″, Black

7510-01-431-6525—Foam Stamp Pad, Size #1, 2 3/4″ x 4 1/2″, Black

7510-01-431-6526—Foam Stamp Pad, Size #3, 4 1/2″ x 7 1/2″, Red

7510-01-431-8625—Felt Stamp Pad, Size#2 3 1/4″ x 6 1/4″, Red

7520-00-117-5627—Fingerprint Pad—Size#1, 2-3/4″ x 4-1/2″, Black

Designated Source of Supply: NYSARC, Inc., Cattaraugus Niagara Counties Chapter, Olean, NY

Contracting Activity: GSA/FAS ADMIN SVCS ACQUISITION BR(2, NEW YORK, NY

NSN(s)—Product Name(s):

7510-01-664-8785—DAYMAX System, 2021 Calendar Pad, Type I

7510-01-664-8814—DAYMAX System, 2021, Calendar Pad, Type II

Designated Source of Supply: Anthony Wayne Rehabilitation Ctr for Handicapped and Blind, Inc., Fort Wayne, IN

Contracting Activity: GSA/FAS ADMIN SVCS ACQUISITION BR(2, NEW YORK, NY

NSN(s)—Product Name(s):

MR 1014—Pad, Scrubber, Specialty

MR 1015—Scrubber, Grout, Non-Scratch, Blue

MR 1090—Scrub Brush with Eraser, Utility

MR 1092—Scrub Brush with Eraser, Palm

MR 1094—Refill, Scrub Brush with Eraser, Palm, 2PK

Designated Source of Supply: Industries for the Blind and Visually Impaired, Inc., West Allis, WI

Contracting Activity: Military Resale-Defense Commissary Agency

Service(s)

Service Type: Janitorial/Custodial

Mandatory for: VA Medical Center: Dental Laboratory, Washington, DC

Designated Source of Supply: Columbia Lighthouse for the Blind, Washington, DC

Contracting Activity: VETERANS AFFAIRS, DEPARTMENT OF, NAC

Service Type: Furniture Design and Configuration Services

Mandatory for: New Hampshire National Guard, 302 Newmarket Street, Newington, NH

Designated Source of Supply: Industries for the Blind and Visually Impaired, Inc., West Allis, WI

Contracting Activity: DEPT OF THE ARMY, W7NN USPFO ACTIVITY NH ARNG

Michael R. Jurkowski,
Acting Director, Business Operations.

[FR Doc. 2022-17887 Filed 8-18-22; 8:45 am]

BILLING CODE 6353-01-P